DEPARTMENT OF EDUCATION

[CFDA: 84.133A-09]

Proposed Priorities: Disability in the Family

AGENCY: Office of Special Education and Rehabilitative Services, Department of Education.

ACTION: Notice.

SUMMARY: The Assistant Secretary for Special Education and Rehabilitative Services proposes a priority for the Disability and Rehabilitation Research Projects and Centers Program administered by NIDRR. Specifically, this notice proposes a DRRP on Disability in the Family. The Assistant Secretary may use this priority for competitions in fiscal year (FY) 2011 and later years. We take this action to focus research attention on areas of national need. We intend this priority to contribute to increased participation and community living within the context of family life for individuals with disabilities and their families.

DATES: We must receive your comments on or before April 28, 2011.

ADDRESSES: Address all comments about this notice to Marlene Spencer, U.S. Department of Education, 400 Maryland Avenue, SW., Room 5133, Potomac Center Plaza (PCP), Washington, DC 20202-2700.

If you prefer to send your comments by e-mail, use the following address: Marlene.Spencer@ed.gov. You must include the phrase “Proposed Priority for Disability in the Family” in the subject line of your electronic message.

FOR FURTHER INFORMATION CONTACT: Marlene Spencer.

Telephone: (202) 245-7532 or by e-mail: Marlene.Spencer@ed.gov.

If you use a telecommunications device for the deaf (TDD), call the Federal Relay Service (FRS), toll free, at 1-800-877-8339.

SUPPLEMENTARY INFORMATION: This notice of proposed priority is in concert with NIDRR's currently approved Long-Range Plan (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice proposes a priority that NIDRR intends to use for DRRP competitions in FY 2011 and possibly later years. However, nothing precludes NIDRR from publishing additional priorities, if needed. Furthermore, NIDRR is under no obligation to make an award for this priority. The decision to make an award will be based on the quality of applications received and available funding.

Invitation to Comment: We invite you to submit comments regarding this notice. To ensure that your comments have maximum effect in developing the notice of final priority, we urge you to identify clearly the specific topic that each comment addresses.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this notice in room 5133, 550 12th Street, SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is (1) to plan and conduct research, demonstration projects, training, and related activities, including international activities, to develop methods, procedures, and rehabilitation technology that maximize the full inclusion and integration into society, employment, independent living, family support, and economic and social self-sufficiency of individuals with disabilities, especially individuals with the most severe disabilities, and (2) to improve the effectiveness of services authorized under the Rehabilitation Act of 1973, as amended (Rehabilitation Act).

An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on the DRRP program can be found at: http://www.ed.gov/rschstat/research/pubs/res-program.html#DRRP.

Program Authority: 29 U.S.C. 762(g) and 764(a).

Applicable Program Regulations: 34 CFR part 350.

Proposed Priority: This notice contains one proposed priority.

DRRP on Disability in the Family.

Background

In the United States, approximately 20.9 million American families have at least one member with a disability. Non-Hispanic White families and Asian families have the lowest incidence of disability, while Black families and American Indian and Alaska Native families have a much higher incidence of disability among family members. Families with at least one member with a disability are more likely to have lower median incomes, higher poverty rates, and a higher dependency on Social Security benefits and public assistance (U.S. Census, 2005).

Individuals with disabilities often face barriers that make it difficult to fulfill family roles. Additionally, families with at least one member with a disability face a wide range of barriers to community living and community participation. Examples of these barriers include, but are not limited to: Inaccessible homes and building designs that make it difficult for a person with a disability to live with his or her family, or to participate with his or her family in community activities (National Council on Disability, 2010; Crews & Zvotka, 2006); laws, policies, and procedures that separate families, such as statutes that use disability status as grounds for terminating parental rights (Lightfoot, Hill, & LaLiberte, 2010); economic burdens associated with care-giving (e.g., reduced wages and limited career options due to factors such as the need for time off work to care for family members with disabilities) (Anderson, Dumont, Jacobs, & Azzaria, 2007); health care information and treatments that are not designed to address the culture and language barriers faced by families from diverse cultures and backgrounds (Baker, Miller, Dang, Yaangh, & Hansen, 2010); and a lack of effective and coordinated family supports (e.g., health care service and financing) across the lifespan of the family member with a disability (Lamar-Dukes, 2009; Reichman, Corman, and Noonan, 2008; Jokinen and Brown, 2005).

NIDRR has funded a wide spectrum of cross-disability research and development activities related to families and individuals with disabilities. NIDRR grantees have addressed family topics including, but not limited to: parenting with a disability, caring for children with disabilities who have chronic health care conditions, child custody, family care-giving, family-based and peer support networks, and technologies that address the family-related needs of individuals with disabilities.

NIDRR grantees also have produced information about the capabilities of parents with disabilities, information about how policies affect families that have members with disabilities, and technologies to assist parents with disabilities in caring for their children. This work has laid a foundation on which to base the identification, development, testing, and evaluation of interventions, programs, technologies, and products that facilitate participation and community living for individuals with disabilities and their families.

References

Anderson, D., Dumont, S., Jacobs, P., and Azzaria, L. (2007). The personal costs of caring for a child with a disability: A review of the literature. Public Health Reports, 122, 3-16.

Baker, D.L., Miller, E., Dang, M.T., Yaangh, C., & Hansen, R.L. (2010). Developing culturally responsive approaches with Southeast Asian American families experiencing developmental disabilities. Pediatrics, 26, S146-S150.

Crews, D.E. & Zavotka, S. (2006). Aging, Disability and Frailty: Implications for Universal Design. Journal of Physiological Anthropology, 25, 113-118.

Jokinen, N.S. & Brown, R.I. (2005). Family quality of life from the perspective of older parents. Journal of Intellectual Disability, 49(10), 789-793.

Lamar-Dukes, P. (2009). Reaching the hard to reach: A review of an initiative aimed at increasing participation and supports for people of color with disabilities and their families in disability organizations. Research and Practice for Persons with Severe Disabilities, 34, 76-80.

Lightfoot, E., Hill, K., & LaLiberte, T. (2010). The inclusion of disability as a condition for termination of parental rights. Child Abuse and Neglect, 34(12), 927-934.

National Council on Disability (2010). The state of housing in America in the 21st century: A disability perspective. [On-line]. Available: http://www.ncd.gov/newsroom/publications/2010/NCD_Housing_Report508.pdf.

Reichman, N.E., Corman, H., & Noonan, K. (2008). Impact of child disability on the family. Maternal and Child Health Journal, 12, 679-683.

U.S. Census Bureau. (2005). Disability and American families: 2000. [On-line]. Available: http://www.census.gov/prod/2005pubs/censr-23.pdf.

Proposed Priority

The Assistant Secretary for Special Education and Rehabilitative Services proposes a priority for a Disability and Rehabilitation Research Project (DRRP) on Disability in the Family. The DRRP must contribute to the outcome of increased participation and community living for individuals with disabilities and their families.

To contribute to this outcome, the DRRP must:

1. Conduct research activities, development activities, or both;

2. Identify or develop, and test or evaluate interventions, programs, technologies, or products;

3. Conduct knowledge translation activities (i.e., training, technical assistance, utilization, dissemination) in order to facilitate stakeholder (e.g., people with disabilities, families that have at least one member with a disability) use of the interventions, programs, technologies, or products that resulted from the research activities, development activities, or both;

4. Involve key stakeholder groups in the activities described in paragraphs 1 through 3 in order to maximize the relevance and usability of the interventions, programs, technologies, or products to be developed or studied; and

5. Include families who are from traditionally underserved populations and who have at least one member with a disability as participants when conducting the activities described in paragraphs 1 through 3.

To contribute to this outcome, the DRRP may:

1. Focus its activities at the individual level, the family level, the systems level, or any combination of the three levels;

2. Include in its activities families with a person with a disability of any age and any disability;

3. Interpret the term “family” broadly; and

4. Choose from a wide range of research and development topics and approaches within any of the domains in NIDRR's currently approved Long Range Plan (i.e., participation and community living, technology for access and function, health and function, employment) in order to contribute to the outcome goal of increased participation and community living for individuals with disabilities and their families.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

Discussion of Costs and Benefits

The benefits of the Disability and Rehabilitation Research Projects and Centers Programs have been well established over the years in that similar projects have been completed successfully. This proposed priority will generate and promote new knowledge through research, development, and knowledge translation activities. Another benefit of this proposed priority is that the establishment of a new DRRP will improve the lives of individuals with disabilities and their family members. The new DRRP will generate and promote the use of new information that will improve the options for individuals with disabilities with regard to community living and community participation.

Intergovernmental Review: This program is not subject to Executive Order 12372 and the regulations in 34 CFR part 79.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: March 24, 2011.
Alexa Posny,
Assistant Secretary for Special Education and Rehabilitative Services.

[FR Doc. 2011-7359 Filed 3-28-11; 8:45 am]

BILLING CODE 4000-01-P